DEPARTMENT OF STATE

[Public Notice 6746]

Culturally Significant Objects Imported for Exhibition Determinations: “Heroes: Mortals and Myths in Ancient Greece”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the objects in the exhibition: “Heroes: Mortals and Myths in Ancient Greece,” imported from abroad for temporary exhibition within the United States, are of cultural significance. The objects are imported pursuant to loan agreements with the foreign owners or custodians. I also determine that the exhibition or display of the exhibit objects at The Walters Art Museum, Baltimore, MD, from on or about October 11, 2009, until on or about January 3, 2010; Frist Center for the Visual Arts, Nashville, TN, from on or about January 29, 2010, until on or about April 25, 2010; San Diego Museum of Art, San Diego, CA, from on or about May 22, 2010, until on or about September 5, 2010; Onassis Cultural Center, New York, NY, from on or about October 5, 2010, until on or about January 3, 2011, and at possible additional exhibitions or venues yet to be determined, is in the national interest. Public Notice of these Determinations is ordered to be published in the Federal Register.

FOR FURTHER INFORMATION CONTACT: For further information, including a list of the exhibit objects, contact Julie Simpson, Attorney-Adviser, Office of the Legal Adviser, U.S. Department of State (telephone: 202-632-6467). The address is U.S. Department of State, L/PD, SA-5, 2200 C Street, NW., Suite 5H03, Washington, DC 20522-0505.

Dated: August 25, 2009.
Maura M. Pally,
Deputy Assistant Secretary for Professional and Cultural Exchanges, Bureau of Educational and Cultural Affairs, Department of State.

[FR Doc. E9-20938 Filed 8-28-09; 8:45 am]

BILLING CODE 4710-05-P